OFFICE OF THE UNITED STATES TRADE REPRESENTATIVE

Generalized System of Preferences (GSP): Notice of Closure of Case 017-CP-05, Protection of Intellectual Property in Pakistan, in the 2005 Annual Country Practice Review

AGENCY: Office of the United States Trade Representative.

ACTION: Notice.

SUMMARY: This notice announces closure of the review for case 017-CP-05, Protection of Intellectual Property in Pakistan.

FOR FURTHER INFORMATION, CONTACT: Marideth Sandler, Executive Director of the GSP Program, Office of the United States Trade Representative (USTR), Room F-220, 1724 F Street, NW., Washington, DC 20508. The telephone number is (202) 395-6971 and the facsimile number is (202) 395-9481.

SUPPLEMENTARY INFORMATION: The GSP program provides for the duty-free importation of designated articles when imported from beneficiary developing countries. The GSP program is authorized by Title V of the Trade Act of 1974 (19 U.S.C. 2461, et seq.), as amended (the “Trade Act”), and is implemented in accordance with Executive Order 11888 of November 24, 1975, as modified by subsequent Executive Orders and Presidential Proclamations.

In the 2005 Annual Review, the GSP Subcommittee of the Trade Policy Staff Committee (TPSC) is reviewing petitions concerning the country practices of certain beneficiary developing countries of the GSP program. As a result of that review, the TPSC has decided to close the review for case 017-CP-05 regarding protection of intellectual property rights in Pakistan. The Petitioner was the International Intellectual Property Alliance (IIPA). The results of other ongoing country practice reviews in the 2005 Annual Review will be announced in the Federal Register at a later date.

Marideth J. Sandler,
Executive Director, GSP Program.

[FR Doc. E6-809 Filed 1-23-06; 8:45 am]

BILLING CODE 3190-W6-P